BUREAU OF CONSUMER FINANCIAL PROTECTION

12 CFR Part 1002

[Docket No. CFPB-2021-0015]

RIN 3170-AA09

Small Business Lending Data Collection Under the Equal Credit Opportunity Act (Regulation B)

Correction

In proposed rule document 2021-19274 beginning on page 56356 in the issue of Friday, October 8, 2021, make the following corrections:

1. On page 56359, in the second column, in footnote 13, “https://cdn.advocacy.sba.gov/content/uploads/2020/06/04144214/2020-Small-Business-Economic-ProfileStates-Territories.pdf” should read “https://cdn.advocacy.sba.gov/wp-content/uploads/2020/06/04144214/2020-Small-Business-Economic-Profile-States-Territories.pdf”.

2. On the same page, in the same column, in footnote 16, “https://www.newyorkfed.org////_issues/ci17-4.pdf” should read “https://www.newyorkfed.org/medialibrary/media/research/current_issues/ci17-4.pdf”.

3. On the same page, in the same column, in footnote 17, “https://www.microbiz.org/content/ploads//04/SmallBizLending-and-FiscalCrisis.pdf” should read “https://www.microbiz.org/wp-content/uploads/2014/04/SBA-SmallBizLending-and-FiscalCrisis.pdf”.

4. On the same page, in the third column, in footnote 20, “https://adpemploymentreport.com////May-2021.aspx” should read “https://www.biz2credit.com/business-lending-index/april-2021”.

5. On the same page, in the same column, in the same footnote, “https://www.biz2credit.com/business-lending-index/april-2021” should read “https://www.biz2credit.com/small-business-lending-index/april-2021”.

6. On the same page, in the same column, in footnote 21, “https://fas.org/sgp//misc/R45878.pdf” should read “https://fas.org/sgp/crs/misc/R45878.pdf”.

7. On page 56361, in the first column, in footnote 35, “https://www.sba.gov/sites/default/files/2019-08/SBA%20%20%20Size%20Standards_Effective%20Aug%2019%2C%202019_Rev.pdf” should read “https://www.sba.gov/sites/default/files/2019-08/SBA%20Table%20of%20Size%20Standards_Effective%20Aug%2019%2C%202019_Rev.pdf”.

8. On the same page, in the second column, in footnotes 42 and 44, “https://www.census.gov/newsroom/press-releases//business-survey.html” should read “https://www.census.gov/newsroom/press-releases/2021/annual-business-survey.html”.

9. On page 56363, in the third column, in footnote 72, “https://www.federalreserve.gov/econrest/feds/files2020089r1pap.pdf” should read “https://www.federalreserve.gov/econres/feds/files/2020089r1pap.pdf”.

10. On page 56368, in the second column, in footnote 130, “https://www.ftc.gov/system/files/documents/report/staff-perspective-paper-ftcs-strictly-business-forum/strickly_business__forum_staff_perspective.pdf” should read “https://www.ftc.gov/system/files/documents/reports/staff-perspective-paper-ftcs-strictly-business-forum/strictly_business_forum_staff_perspective.pdf”.

11. On page 56369, in the third column, in footnote 146, “https://www.farmcreditfunding.com/ffcb_live/serve/public/pressre/finin/pdf?assetId=395570” should read “https://www.farmcreditfunding.com/ffcb_live/serve/public/pressre/finin/report.pdf?assetId=395570”.

Appendix H to Part 1002 [Corrected]

12. On page 56586, in Appendix H to Part 1002, in the first column, footnote 959 should read as follows:

For a financial institution with fewer than 30 entries in its small business lending application register, the full sample size is the financial institution's total number of entries. The threshold number for such financial institutions remains three. Accordingly, the threshold percentage will be higher for financial institutions with fewer than 30 entries in their registers.

[FR Doc. C1-2021-19274 Filed 12-10-21; 8:45 am]

BILLING CODE 0099-10-D